DEPARTMENT OF EDUCATION

NCER-NPSAS Grants—Connecting Students 2017: Testing the Effectiveness of FAFSA Interventions on College Outcomes; ED-2016-ICCD-0112; Correction

AGENCY: Department of Education.

ACTION: Correction notice.

SUMMARY: On October 21, 2016 the U.S. Department of Education published a 60-day comment period notice in the Federal Register (Page 72582, Column 2 and 3; Page 72583, Column 1) seeking public comment for an information collection entitled, “NCER-NPSAS Grants—Connecting Students 2017: Testing the Effectiveness of FAFSA Interventions on College Outcomes.” The title and burden hours were incorrect. The correct title is “NCER-NPSAS Grant Study—Connecting Students with Financial Aid (CSFA) 2017: Testing the Effectiveness of FAFSA Interventions on College Outcomes”, and the burden hours are 6,808.

The Acting Director, Information Collection Clearance Division, Office of the Chief Privacy Officer, Office of Management, hereby issues a correction notice as required by the Paperwork Reduction Act of 1995.

Dated: October 31, 2016.
Kate Mullan,
Acting Director, Information Collection Clearance Division, Office of the Chief Privacy Officer, Office of Management.

[FR Doc. 2016-26568 Filed 11-2-16; 8:45 am]

BILLING CODE P